DEPARTMENT OF COMMERCE

National Oceanic and Atmospheric Administration

Agency Information Collection Activities; Submission to the Office of Management and Budget (OMB) for Review and Approval; Comment Request; Statement of Financial Interests, Regional Fishery Management Councils

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 23, 2022 (87 FR 58064) during a 60-day comment period. This notice allows for an additional 30 days for public comments.

Agency: National Oceanic & Atmospheric Administration (NOAA), Commerce.

Title: Statement of Financial Interests for Regional Fishery Management Councils.

OMB Control Number: 0648-0192.

Form Number(s): NOAA Form 88-195.

Type of Request: Regular (revision and extension of a current information collection).

Number of Respondents: 330.

Average Hours per Response: 45 minutes.

Total Annual Burden Hours: 248 hours.

Needs and Uses: The Magnuson Stevens Fishery Conservation and Management Act (Magnuson-Stevens Act) authorizes the establishment of eight Regional Fishery Management Councils to manage fisheries within regional jurisdictions. Section 302(j) of the Magnuson-Stevens Act requires that affected individuals, including Council members appointed by the Secretary of Commerce, Scientific and Statistical Committee (SSC) members appointed by a Council, and individuals nominated by the State Governor, Territorial Governor or Tribal Government for possible appointment as a Council member (50 CFR 600.235), must disclose their financial interest in any Council fishery. Financial interests include harvesting, processing, lobbying, advocacy, or marketing activity that is being, or will be, undertaken within any fishery over which the Council concerned has jurisdiction. Information on financial interests must be disclosed on NOAA Form 88-195, Statement of Financial Interests, under OMB collection 0648-0192. The information collected is used to assess potential conflicts of interest and to make determinations about when recusals from Council voting decisions are necessary to avoid such conflicts. NOAA Fisheries and Council offices are required to maintain current Statement of Financial Interests forms on file that are publically available for transparency. The Statement of Financial Interests form is being revised at this time for consistency with the final rule to clarify guidance on council members' financial disclosures and voting recusals (50 CFR 600.235; as amended at 85 FR 56177, Sept. 11, 2020).

Affected Public: Individuals or households.

Frequency: Annual.

Respondent's Obligation: Mandatory.

Legal Authority: Magnuson-Stevens Act section 302(j) and 50 CFR 600.235.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0192.

Sheleen Dumas,
Department PRA Clearance Officer, Office of the Chief Information Officer, Commerce Department.

[FR Doc. 2022-28215 Filed 12-27-22; 8:45 am]

BILLING CODE 3510-22-P